DEPARTMENT OF AGRICULTURE

Submission for OMB Review; Comment Request

March 21, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Forest Service

Title: West Copper River Delta Sport Fish Use Survey.

OMB Control Number: 0596-NEW.

Summary of Collection: The current level of use and the present habitat conditions are unknown for specific stream systems on the West Copper River Delta (WCRD). The Alaska Department of Fish and Game currently collects use and harvest data for the area. However, this data is not stream or Forest Service (FS) land specific, but rather it is grouped across a large area of streams accessible via the Cordova Road System. This data does not allow sport fish use to be categorized at a small spatial scale. Sport fish use data needs to be collected at a smaller scale so that manager can respond to sport fish issues at the individual stream level. The Cordova Ranger District proposed to collect sport fish use data on streams flowing through National Forest lands in the Cordova area. The Cordova Ranger District proposes to collect the information in three ways: person-to-person interviews at the airport and at ferry terminals, mail-in questionnaires distributed to local residents, and aerial counts of anglers.

Need and Use of the Information: The collected information will be used to monitor and manage sport fish use on the WCRD. The information will allow National Forest land managers to quantify the amount of sport fish use and describe the pattern of that use across the landscape. The information may also help to locate access issues, improve access, identify potential areas of habitat degradation and rehabilitate habitat, build or improve recreation facilities/parking, focus habitat monitoring in concentrated areas, and focus public education efforts to the appropriate user group: Local vs. non-local.

Description of Respondents: Individuals or households.

Number of Respondents: 5,000.

Frequency of Responses: Reporting: Annually.

Total Burden Hours: 958.

Ruth Brown,
Departmental Information Collection Clearance Officer.

[FR Doc. 05-5878 Filed 3-24-05; 8:45 am]

BILLING CODE 3410-11-M